NATIONAL AERONAUTICS AND SPACE ADMINISTRATION

[Notice 01-022]

NASA Advisory Council (NAC), Aero-Space Technology Advisory Committee (ASTAC); Aviation Operations Systems Subcommittee; Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee, Aviation Operations Systems Subcommittee meeting.

DATES: Wednesday, March 28, 2001, 1 p.m. to 5 p.m. and Thursday, March 29, 2001, 8:30 a.m. to 4:30 p.m.

ADDRESSES: National Aeronautics and Space Administration, Ames Research Center, Building 262, Room 100, Moffett Field, CA 94035-1000.

FOR FURTHER INFORMATION CONTACT: Robert A. Jacobsen, National Aeronautics and Space Administration, Ames Research Center, Moffett Field, CA 94035, 650/604-3743.

SUPPLEMENTARY INFORMATION: The meeting will be open to the public up to the seating capacity of the room. The agenda for the meeting is as follows:

—Aviation Operations Systems Program Review

—Aircraft Icing Research Project Review

—Human Automation Integration Research Project Review

—Human Error and Countermeasures Research Project Review

—Psychological/Physiological Stressors and Factors Research Project Review

It is imperative that the meeting be held on these dates to accommodate the scheduling priorities of the key participants.

Dated: February 6, 2001.
Beth M. McCormick,
Advisory Committee Management Officer, National Aeronautics and Space Administration.

[FR Doc. 01-3478 Filed 2-9-01; 8:45 am]

BILLING CODE 7510-01-U